DEPARTMENT OF TRANSPORTATION

Federal Aviation Administration

Public Notice for Waiver of Aeronautical Land-Use Assurance; W.K. Kellogg Airport, Battle Creek, Michigan

AGENCY: Federal Aviation Administration, DOT.

ACTION: Notice of intent of waiver with respect to land.

SUMMARY: The Federal Aviation Administration (FAA) is considering a proposal to change a portion of the airport from aeronautical use to non-aeronautical use. The proposal consists of three parcels of land designated as Parcel No. 50 (.436 acres), Parcel No. 51 (.379 acres), and Parcel No. 52 (.245 acres) together totalling approximately 1.06 acres for a permanent roadway easement. Current use and present condition is vacant grassland. There are no impacts to the airport by allowing the airport to dispose of the property. The land was acquired under FAA Project No. 9-20-040-6003. Approval does not constitute a commitment by the FAA to financially assist in the disposal of the subject airport property nor a determination that all measures covered by the program are eligible for grant-in-aid funding from the FAA. The disposition of proceeds from the disposal of the airport property will be in accordance with the FAA's Policy and Procedures Concerning the Use of Airport Revenue, published in the Federal Register on February 16, 1999.

In accordance with section 47107(h) of title 49, United States Code, this notice is required to be published in the Federal Register 30 days before modifying the land-use assurance that requires the property to be used for an aeronautical purpose. The proposed land will be sold in fee as a permanent roadway easement to provide improvements for traffic circulation around the airport—specifically for the right-of-way for additional turn lanes and roadway drainage. The proceeds from the sale of the land will be used for airport improvements and operational expenses at W. K. Kellogg Airport.

DATES: Comments must be received on or before January 25, 2001.

FOR FURTHER INFORMATION CONTACT: Gary Migut, Federal Aviation Administration, Great Lakes Region, Detroit Airports District Office, DET ADO-650.2, Willow Run Airport, East, 8820 Beck Road, Belleville, Michigan 48111, (734) 487-7278. Documents reflecting this FAA action may be reviewed at this same location or at W. K. Kellogg Airport, 2712 W. Territorial Road, Battle Creek, Michigan 49015.

SUPPLEMENTARY INFORMATION: Following are legal descriptions of the property:

Parcel No. 50

Lands located in the City of Battle Creek, County of Calhoun described as:

That part of the following Tract “A” lying Northeasterly of a line 35.000m (114.83 feet) Southwesterly of (as measured radially and parallel to) a line described as: Commencing at the Northwest corner of Section 10, Town 2 South, Range 8 West, City of Springfield, Calhoun County, Michigan; thence South 00°59′48″ East, 57.8m (189.70 feet) along the West line of said Section 10 to the point of intersection of said West line of Section 10 and the right of way reference line of Highway I-94BL (Dickman Road); thence South 73°14′50″ East, 36.387m (119.38 feet) along said right of way reference line to the point of curvature of a 873.231m (2864.93 foot) radius curve to the left, also being the point of beginning of this description; thence Southeasterly along the arc of curve 256.849m (842.68 feet), (chord bearing South 81°40′25″ East, chord distance 255.923m (839.64 feet)) to the point of tangency and the point of ending.

Also: That part of the following described Tract “A” lying Northeasterly of a line 25.00m (82.02 feet) Southwesterly of (as measured at radially and parallel to) a line described as: Commencing at the Northwest corner of Section 10, Town 2 South, Range 8 West, City of Springfield, Calhoun County, Michigan; thence South 00°59′48″ East, 57.82m (189.70 feet) along the West Section line of said Section 10 to the point of intersection of said West Section line and the survey centerline of Highway I-94BL (Dickman Road); thence South 73°14′50″ East on said survey centerline, 62.859m (206.23 feet) to the point of curvature of a 873.231m (2864.93 foot) radius curve to the left; thence Southeasterly along the arc of said curve 163.037m (534.90 feet), [chord bearing South 78°35′46″ East, chord distance 162.803m (534.13 feet)] to the point of intersection of said I-94BL survey centerline and the construction centerline of Helmer Road (South Leg); thence South 01°01′30″ West, 23.002m (75.47 feet) to the point of curvature (point of tangency on plans) of a 163.982m (538.00 foot) radius curve to the left, also being the point of beginning of this description; thence Southerly along said arc of curve 86.067m (282.37 feet), [chord bearing South 14°00′40″ East, chord distance 85.082m (279.14 feet)] to a point of compound curvature; thence North 75°50′52″ East, 30.000m (98.43 feet) to the point of ending.

The lands described above in easement contain 2491.24 square meters (26,815 square feet), more or less.

Tract “A”: Beginning at the West ¼ post of Section 10, Town 2 South, Range 8 West, City of Battle Creek, Calhoun County, Michigan; thence N. 00 Deg. 07′ 39″ E., 2383.94 feet along the West line of said Section 10 to the Southerly right-of-way line of Dickman Road West (150 feet wide) and a point distant S. 00 Deg. 07′ 39″ W., 268.46 feet from the Northwest corner of said Section 10; thence S. 72 Deg. 07′ 23″ E., 99.56 feet along said Southerly right-of-way; thence continuing along said Southerly right-of-way; thence continuing along said Southerly right-of-way of Dickman Road West 595.58 feet along the arc of a curve to the left with a radius of 3894.83 feet, the chord of which bears S. 76 Deg. 30′ 14″ E., 595.00 feet to the West line of Helmer Road; thence Southerly along the Westerly line of Helmer Road (80 feet wide) the following 6 courses: S. 1 Deg. 04′ 31″ W., 22.65 feet; thence 303.97 feet along the arc of a curve to the left with a radius of 578.00 feet, the chord of which bears S. 13 Deg. 57′ 40″ E., 299.50 feet; thence 234.33 feet along the arc of a curve to the right with a radius of 455.01 feet; the chord of which bears S. 14 Deg. 14′ 37″ E.; 231.75 feet; thence S. 00 Deg. 30′ 36″ W., 668.79 feet; thence 592.12 feet along the arc of a curve to the right with a radius of 2185.43 feet, the chord of which bears S. 08 Deg. 16′ 18″ W., 590.30 feet; thence S. 16 Deg. 02′ 00″ W., 451.51 feet to the East and West ¼ line of said Section 10; thence N. 88 Deg. 58′ 00″ W., 592.10 feet along said East and West ¼ line of Section 10, to the place of beginning. EXCEPT that portion of land described as: Beginning at a point on the West Section line of Section 10, T2S, R8W, Battle Creek Township, Calhoun County, Michigan, which is 187.86 feet South of the Northwest section corner of said Section 10, which is the point of beginning of this description; thence South 73 deg. 14′ 50″ East a distance of 300 feet; thence South 68 deg. 11′ 10″ West a distance of 305.42 feet; thence North along said West section line a distance of 200 feet to the point of beginning. (Contains 0.66 acres of land, m/l) As recorded in Liber 792, pages 235, Calhoun County Register of Deeds.

Parcel N. 51

Lands located in the City of Springfield, County of Calhoun described as:

That part of the following described Tract “A” lying Easterly of a line 30.00m (98.43 feet) Westerly of (as measured at right angles and parallel to) a line described as: Beginning at the Northeast corner of Section 9, Town 2 South, Range 8 West, City of Springfield, Calhoun County, Michigan; thence South 00°59′48″ East, 60.00m (196.85 feet) along the East line of (also the construction centerline of Helmer Road (North Leg)) said Section 9 to the point of ending. ALSO that part of Tract “A” lying Easterly of a line 22.00m (72.18 feet) Westerly of (as measured at right angles and parallel to) a line described as: Beginning at the Southeast corner of Section 4, Town 2 South, Range 8 West, City of Springfield, Calhoun County, Michigan; thence North 00°38′33″ West, 150.00m (492.13 feet) along the East line of (also the construction centerline of Helmer Road (North Leg)) said Section 4 to the point of ending.

The lands described above in easement contain 2769.26 square meters (29,808 square feet) more or less, of which 1533.31 square meters (16,504 square feet), more or less, is subject to an existing right of way.

Tract “A”: Beginning at the intersection of the South boundary of abandoned railroad right-of-way with the East line of Section 4, Town 2 South, Range 8 West, distant 352 feet North of the Southeast corner of said Section; thence South to Section corner; thence West on the South line of said Section 900 feet; thence North parallel with East line of said Section 152 feet, more or less, to the South boundary of said abandoned railroad right-of-way; thence Easterly along said abandoned railroad right-of-way parallel with the centerline of road-bed and distant 33 feet Southerly therefrom to the place of beginning.

Exception Therefrom all that part of the South 30 rods of the East ½ of the Southeast ¼ Section 4, Town 2 South, Range 8 West, that lies Southerly of a line 75 feet Northerly of and parallel to the centerline of U.S. 12-A as surveyed.

Also all that part of the North 1/16 of the East 32 acres of the Northeast ¼ of Section 9, T2S, R8W, Battle Creek Township, Calhoun County, Michigan, which lies Northerly of a line 75 feet Northerly of (measured at right angles and parallel to) the construction centerline of Highway US-12A;

Excepting Therefrom the East 33 feet.

The construction centerline of Highway US-12A is described as: Beginning at a point on the East line of Section 9, T2S, T8W, Battle Creek Township, Calhoun County, Michigan, which is 187.86 feet South of the Northeast corner of said Section 9; thence North 73 deg. 14′50″ West a distance of 287.43 feet to a point on a curvature of 3,274.39 foot radius curve to the left, chord bearing North 81 deg. 48′40″ West; thence along the arc of said curve a distance of 978.73 feet to the point of tangency of said curve; thence South 89 deg. 37′30″ West a distance of 100 feet to point of ending.

Subject to use as a Clear Approach Zone for the Northeast end of the Northeast-Southwest runway to the Municipal Airport; and when and if premises cease to used for the purpose for which purchased, it will cause good and sufficient reason for reconveyance to Michigan State Highway Department. (Billboard provision.)

Parcel No. 52

Lands located in the City of Springfield, County of Calhoun described as:

That part of the following described Tract “A” lying Westerly of a line 20.00m (65.62 feet) Easterly of (as measured radially and parallel to) a line described as: Commencing at the Northwest corner of Section 10, Town 2 south, Range 8 West, City of Springfield, Calhoun County, Michigan; thence South 00°59′48″ East, 57.82m (189.70 feet) along the West Section line of said Section 10 to the intersection of said West Section line and the survey centerline of I-94BL (Dickman Road); thence South 73°14′50″ East on said survey centerline, 62.859m (206.23 feet) to the point of curvature of a 873.231m (2864.93 foot) radius curve to the left; thence Southeasterly along the arc of said curve 163.037m (534.90 feet), (chord bearing South 78°35′46″ East, chord distance 162.803m (534.13 feet)) to the intersection of said I-94BL survey centerline and construction centerline Helmer Road (South Leg); thence South 01°01′30″ West, 23.002m (75.47 feet) to a point of curvature (point of tangency on plans) of a 163.982m (538.00 foot) radius curve to the left, also being the point of beginning of his description; thence Southerly along said arc of curve 86.067m (282.37 feet), (chord bearing South 14°00′40″ East, chord distance 85.082m (279.14 feet)) to a point of compound curvature; thence southerly along the arc of a 150.879m (495.01 foot) radius curve to the right, 77.700m (254.92 feet), (chord bearing South 14°17′37″ East, chord distance 76.844m (252.11 feet)) to the point of tangency (point of curvature on plans) and the point of ending.

The lands described above in easement contain 1559.45 square meters (16,876 square feet) more or less, of which 993.28 square meters (10,692 square feet) more or less, are subject to an existing right of way easement.

Tract “A”: The West ½ of Lot No. 8, all of Lots No. 9 through 18, inclusive, and the West ½ of Lot 19, of Block 12 of EDGEWOOD, according to the Plat thereof recorded in Liber 7 of Plats, on page 17, in the Office of the Register of Deeds for Calhoun County, Michigan.

Issued in Belleville, Michigan, December 1, 2000.
Irene R. Porter,
Manager, Detroit Airports District Office, Great Lakes Region.

[FR Doc. 00-32521 Filed 12-22-00; 8:45 am]

BILLING CODE 4910-13-M